DEPARTMENT OF JUSTICE

Notice of Lodging of Proposed Consent Decree Under the Clean Air Act

On December 1, 2021, the Department of Justice lodged a proposed consent decree with the United States District Court for the Western District of Kentucky in the lawsuit entitled United States and Louisville Metro Air Pollution Control District v. Louisville Gas & Electric Company, Civil Action No. 3:20-cv-00542-CRS.

The United States and the Louisville Metro Air Pollution Control District (“District”) filed a complaint against Louisville Gas & Electric Company (“LG&E”) alleging violations of the Clean Air Act (“Act”) at LG&E's Mill Creek facility in Jefferson County, Kentucky. The claims alleged in the complaint and resolved by the proposed consent decree concern LG&E's emission of sulfuric acid mist. The proposed consent decree requires LG&E to pay a $750,000 civil penalty, perform a supplemental environmental project estimated to cost $540,000, and perform injunctive relief.

The publication of this notice opens a period for public comment on the proposed consent decree. Comments should be addressed to the Assistant Attorney General, Environment and Natural Resources Division and should refer to United States and Louisville Metro Air Pollution Control District v. Louisville Gas & Electric Company, D.J. Ref. No. 90-5-2-1-11597. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, D.C. 20044-7611.

During the public comment period, the proposed consent decree may be examined and downloaded at this Justice Department website: https://www.justice.gov/enrd/consent-decrees. We will provide a paper copy of the proposed consent decree upon written request and payment of reproduction costs. Please mail your request and payment to: Consent Decree Library, U.S. DOJ—ENRD, P.O. Box 7611, Washington, DC 20044-7611.

Please enclose a check or money order for $12.00 (25 cents per page reproduction cost) payable to the United States Treasury.

Lori Jonas,
Assistant Section Chief, Environmental Enforcement Section, Environment and Natural Resources Division.

[FR Doc. 2021-26461 Filed 12-6-21; 8:45 am]

BILLING CODE 4410-15-P